DEPARTMENT OF JUSTICE

Notice of Lodging of Consent Decree Under the Clean Water and Clean Air Acts

Notice is hereby given that on July 24, 2012, a proposed Consent Decree in United States, et al. v. Shenango Incorporated, Civil Action No. 2:12-cv-01029-GLL was lodged with the United States District Court for the Western District of Pennsylvania.

Shenango Incorporated (“Shenango”) is a company located in the greater Pittsburgh area which owns and operates a single battery containing 56 coke ovens in which it converts coal to coke. The Consent Decree obligates Shenango to implement a program of ceramic welding to address opacity violations at the coke ovens and combustion stack at the facility, and to adhere to various protocols for inspection, maintenance, and operation of the coke ovens. The settlement further obligates Shenango to install certain interim measures at its wastewater treatment plant and, after issuance of a new and revised National Pollutant Discharge Elimination System (“NPDES”) permit, to install biological treatment in the wastewater treatment plant. In addition, Shenango will pay a civil penalty of $1,750,000 to resolve its violations of the Clean Air Act and the Clean Water Act. The Allegheny County Health Department (“ACHD”) and the Pennsylvania Department of Environmental Protection (“PADEP”) are co-plaintiffs with the United States.

The Consent Decree resolves civil claims for violations alleged in a Complaint filed concurrently with the Consent Decree. In the Complaint, Plaintiffs allege that Shenango violated regulations of ACHD, which are incorporated into the Pennsylvania State Implementation Plan (“SIP”), because Shenango had visible emissions in excess of those allowed under the ACHD regulations, from charging, from the door areas, from offtake piping, from pushing, and at the combustion stack. In addition, Plaintiffs allege that Shenango violated the limits on flaring, mixing or combustion of coke oven gas. Under the Clean Water Act, Plaintiffs allege that Shenango violated the effluent limitations in the NPDES Permit issued to it, that Shenango also discharged polluted stormwater without authorization into the Ohio River, and that Shenango failed to properly operate and maintain its wastewater treatment plant in violation of the terms of its NPDES permit.

The Department of Justice will receive for a period of thirty (30) days from the date of this publication comments relating to the proposed Consent Decree. Comments should be addressed to the Assistant Attorney General, Environment and Natural Resources Division, and either emailed to pubcomment-ees.enrd@usdoj.gov or mailed to P.O. Box 7611, U.S. Department of Justice, Washington, DC 20044-7611, and should refer to United States et al. v. Shenango Incorporated, D.J. Ref. 90-5-2-3-1099/3.

During the public comment period, the Consent Decree may also be examined on the following Department of Justice Web site, to http://www.usdoj.gov/enrd/Consent_Decrees.html. A copy of the Consent Decree may also be obtained by mail from the Consent Decree Library, P.O. Box 7611, U.S. Department of Justice, Washington, DC 20044-7611 or by faxing or emailing a request to “Consent Decree Copy”(EESCDCopy.ENRD@usdoj.gov), fax no. (202) 514-0097, phone confirmation number (202) 514-5271. If requesting a copy from the Consent Decree Library by mail, please enclose a check in the amount of $ 15.75 for the Consent Decree and $100.00 for the Appendices thereto (25 cents per page reproduction cost) payable to the U.S. Treasury or, if requesting by email or fax, forward a check in that amount to the Consent Decree Library at the address given above.

Robert Brook,
Assistant Chief, Environmental Enforcement Section, Environment and Natural Resources Division.

[FR Doc. 2012-18434 Filed 7-27-12; 8:45 am]

BILLING CODE 4410-15-P